DEPARTMENT OF LABOR

Employment and Training Administration

[TA-W-74,164]

International Business Machines (IBM), Global Technology Services Delivery Division, Including On-Site Leased Workers From Artech, Greenville, South Carolina; Amended Certification Regarding Eligibility To Apply for Worker Adjustment Assistance

In accordance with Section 223 of the Trade Act of 1974, as amended (“Act”), 19 U.S.C. 2273, the Department of Labor issued a Certification of Eligibility to Apply for Worker Adjustment Assistance on August 25, 2010, applicable to workers of International Business Machines (IBM), Global Technology Services Delivery Division, Greenville, South Carolina. The Department's Notice of determination was published in the Federal Register on September 15, 2010 (75 FR 56143).

At the request of a State Workforce Agent, the Department reviewed the certification for workers of the subject firm. The workers provide customer help desk support.

During the review, the company confirmed that workers leased from Artech were employed on-site at the Greenville, South Carolina location of IBM, Global Technology Services Delivery Division. The Department has determined that these workers were sufficiently under the control of the subject firm to be considered leased workers.

Based on these findings, the Department is amending this certification to include workers leased from Artech working on-site at the Greenville, South Carolina location of IBM, Global Technology Services Delivery Division.

The amended notice applicable to TA-W-74,164 is hereby issued as follows:

All workers of International Business Machines (IBM), Global Technology Services Delivery Division, including on-site leased workers from Artech, Greenville, South Carolina, who became totally or partially separated from employment on or after May 26, 2009, through August 25, 2012, and all workers in the group threatened with total or partial separation from employment on the date of certification through two years from the date of certification, are eligible to apply for adjustment assistance under Chapter 2 of Title II of the Trade Act of 1974, as amended.

Signed at Washington, DC, this 21st day of September, 2010.
Del Min Amy Chen,
Certifying Officer, Office of Trade Adjustment Assistance.

[FR Doc. 2010-24378 Filed 9-28-10; 8:45 am]

BILLING CODE 4510-FN-P